DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by June 5, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Aquaculture Survey.

OMB Control Number: 0535-0150.

Summary of Collection: The primary objective of the National Agricultural Statistics Service is to prepare and issue State and national estimates of crop and livestock production, prices, and disposition. The Aquaculture Surveys program produces estimates at the national level on both trout and catfish. Survey results are used by government agencies and others in planning farm programs.

The trout survey includes sales (dollars, pounds, and quantities), percent of product sold by outlet at the point of first sale, distribution (dollars, pounds, and quantities) of fish raised for release into open waters, and losses. The catfish surveys include inventory counts, water surface acreage used for production and sales (dollars, pounds, and quantities).

Need and Use of the Information: Survey results are used by members of the Cooperative Extension System and the National Sea Grant College Program who research and work in aquaculture. The information is used to analyze changing trends in the number of commercial operations and production levels by State, as well as to demonstrate the growing importance of aquaculture to officials of federal and State government agencies who manage and direct policy for programs in agriculture and natural resources. Extension specialists use the data to demonstrate the impact of educational programs and other efforts to assist in developing economically viable aquaculture operations. The type of information collected and reported provides extension educators and research scientists with data that indicate important areas that require special educational and/or research efforts, such as causes for fish loss and pond inventories of fish of various sizes.

Description of Respondents: Farms; business or other for-profit.

Number of Respondents: 2,950.

Frequency of Responses: Reporting: on occasion; annually.

Total Burden Hours: 551.

Levi S. Harrell,
Departmental Information Collection Clearance Officer.

[FR Doc. 2023-09625 Filed 5-4-23; 8:45 am]

BILLING CODE 3410-20-P